DEPARTMENT OF TRANSPORTATION

Research and Special Programs Administration

[Docket No. RSPA-2000-6944 (Notice No. 00-6)]

Reports, Forms and Recordkeeping Requirements Agency Information Collection Activity Under OMB Review

AGENCY: Research and Special Programs Administration (RSPA), DOT.

ACTION: Notice and request for comments.

SUMMARY: In compliance with the Paperwork Reduction Act of 1995 (44 U.S.C. 3501 et seq.), this notice announces that the Information Collection Requests (ICRs) abstracted below have been forwarded to the Office of Management and Budget (OMB) for review and comments. The ICRs describe the nature of the information collections and their expected burden. The Federal Register Notice with a 60-day comment period soliciting comments on the following collections of information was published on April 5, 2000, [17940-17943].

DATES: Comments must be submitted on or before July 14, 2000.

FOR FURTHER INFORMATION CONTACT: Deborah Boothe, Office of Hazardous Materials Standards (DHM-10), Research and Special Programs Administration, Room 8422, 400 Seventh Street, SW, Washington, DC 20590-0001, Telephone (202) 366-8553.

SUPPLEMENTARY INFORMATION: Title: Rail Carriers and Tank Car Tanks Requirements.

OMB Control Number: 2137-0559.

Type of Request: Extension of a currently approved collection.

Abstract: This information collection consolidates and describes the information collection provisions in parts 172, 173, 174, 179, and 180 of the Hazardous Materials Regulations (HMR; 49 CFR parts 171-180) on the transportation of hazardous materials by rail and the manufacture, qualification, maintenance and use of tank cars. The types of information collected include:

(1) Approvals of the Association of American Railroads (AAR) Tank Car Committee: An approval is required from the AAR Tank Car Committee for a tank car to be used for a commodity other than those specified in part 173 and on the certificate of construction. This information is used to ascertain whether a commodity is suitable for transportation in a tank car. AAR approval also is required for an application for approval of designs, materials and construction, conversion or alteration of tank car tanks constructed to a specification in part 179 or an application for construction of tank cars to any new specification. This information is used to ensure that the design, construction or modification of a tank car or the construction of a tank car to a new specification is performed in accordance with the applicable requirements.

(2) Progress Reports: Each owner of a tank car that is required to be modified to meet certain requirements specified in § 173.31(b) must submit a progress report to the Federal Railroad Administration (FRA). This information is used by FRA to ensure that all affected tank cars are modified before the regulatory compliance date.

(3) FRA Approvals: An approval is required from FRA to transport a bulk packaging (such as a portable tank, IM portable tank, intermediate bulk container, cargo tank, or multi-unit tank car tank) containing a hazardous material in container-on-flat-car or trailer-on-flat-car service other than as authorized by § 174.63. FRA uses this information to ensure that the bulk package is properly secured using an adequate restraint system during transportation. Also an FRA approval is required for the movement of any tank car that does not conform to the applicable requirements in the HMR. RSPA proposed (September 30 1999; 64 FR 53169) to broaden this provision to include the movement of covered hopper cars, gondola cars, and other types of railroad equipment when they no longer conform to Federal law but may safely be moved to a repair location. These latter movements are currently being reported under the information collection for exemption applications.

(4) Manufacturer Reports and Certificate of Construction: These documents are prepared by tank car manufacturers and are used by owners, users and FRA personnel to verify that rail tank cars conform to the applicable specification.

(5) Quality Assurance Program: Facilities that build, repair and ensure the structural integrity of tank cars are required to develop and implement a quality assurance program. This information is used by the facility and DOT compliance personnel to ensure that each tank car is constructed or repaired in accordance with the applicable requirements.

(6) Inspection Reports: A written report must be prepared and retained for each tank car that is inspected and tested in accordance with § 180.509 of the HMR. Rail carriers, users, and the FRA use this information to ensure that rail tank cars are properly maintained and in safe condition for transporting hazardous materials.

Affected Public: Manufacturers, owners and rail carriers of tank cars.

Estimated Number of Respondents: 260.

Estimated Number of Responses: 16,640.

Annual Estimated Burden Hours: 2,759.

Frequency of Collection: Annually.

Title: Requirements for Cargo Tanks

OMB Control Number: 2137-0014

Type of Request: Extension of a currently approved collection.

Abstract: This information collection consolidates and describes the information collection provisions in parts 178 and 180 of the HMR involving the manufacture, qualification, maintenance and use of all specification cargo tank motor vehicles. Also it includes the information collection and recordkeeping requirements for persons who are engaged in the manufacture, assembly, requalification and maintenance of DOT specification cargo tank motor vehicles. The types of information collected include:

(1) Registration Statements: Cargo tank manufacturers and repairers and cargo tank motor vehicle assemblers are required to be registered with DOT by furnishing information relative to their qualifications to perform the functions in accordance with the HMR. The registration statements are used to identify these persons so that DOT can ensure that they have the knowledge and skills necessary to perform the required functions and that they are performing the specified functions in accordance with the applicable regulations.

(2) Requalification and Maintenance Reports: These reports are prepared by persons who requalify or maintain cargo tanks. This information is used by cargo tank owners, operators and users, and DOT compliance personnel to verify that the cargo tanks are requalified, maintained and are in proper condition for the transportation of hazardous materials.

(3) Manufacturers' Data Reports, Certificates and Related Papers: These reports are prepared by cargo tank manufacturers, certifiers and are used by cargo tank owners, operators, users and DOT compliance personnel to verify that a cargo tank motor vehicle was designed and constructed to meet all requirements of the applicable specification.

Affected Public: Manufacturers, assemblers, repairers, requalifiers, certifiers and owners of cargo tanks.

Estimated Number of Respondents: 41,366.

Estimated Number of Responses: 132,600.

Annual Estimated Burden Hours: 106,262.

Frequency of Collection: Periodically.

Title: Rulemaking, Exemption, and Preemption Requirements.

OMB Control Number: 2137-0051.

Type of Request: Extension of a currently approved collection.

Abstract: This collection of information applies to rulemaking procedures regarding the HMR. Specific areas covered in this information collection include Part 106, Subpart B, “Procedures for Adoption of Rules,” Part 107, subpart B, “Exemptions,” Part 107, Subpart C, “Preemption.” The Federal hazardous materials transportation law directs the Secretary of Transportation to prescribe regulations for the safe transportation of hazardous materials in commerce. RSPA is authorized to accept petitions for rulemaking and for reconsideration of rulemakings, as well as applications for exemptions, preemption determinations and waivers of preemption. The types of information collected include:

(1) Petitions for Rulemaking: Any person may petition the Associate Administrator for Hazardous Materials Safety to establish, amend, or repeal a substantive regulation, or may petition the Chief Counsel to establish, amend, or repeal a procedural regulation in Part 106 or 107.

(2) Petitions for Reconsideration: Except as provided in § 106.39(d), any person may petition the Associate Administrator for reconsideration of any regulation issued under Part 106, or may petition the Chief Counsel for reconsideration of any procedural regulation issued under Part 106 and contained in Part 106 or 107.

(3) Application for Exemption: Any person applying for an exemption must include the citation of the specific regulation from which the applicant seeks relief; specification of the proposed mode or modes of transportation; detailed description of the proposed exemption (e.g., alternative packaging, test procedure or activity), including written descriptions, drawings, flow charts, plans and other supporting documents, etc.

(4) Application for Preemption Determination: Any person directly affected by any requirement of a State, political subdivision, or Indian tribe may apply for a determination whether that requirement is preempted under 49 U.S.C. 5125, or regulations issued thereunder. The application must include the text of the State or political subdivision or Indian tribe requirement for which the determination is sought; specify each requirement of the Federal hazardous material transportation law or the regulations issued thereunder with which the applicant seeks the State, political subdivision or Indian tribe requirement to be compared; explanation of why the applicant believes the State or political subdivision or Indian tribe requirement should or should not be preempted under the standards of § 107.202; and how the applicant is affected by the State or political subdivision or Indian tribe requirements.

(5) Waivers of Preemption: With the exception of requirements preempted under 49 U.S.C. 5125(c), any person may apply to the Associate Administrator for a waiver of preemption with respect to any requirement that the State or political subdivision thereof or an Indian tribe acknowledges to be preempted under the Federal hazardous material transportation law or the regulations issued thereunder, or that has been determined by a court of competent jurisdiction to be so preempted. The Associate Administrator may waive preemption with respect to such requirement upon a determination that such requirement affords an equal or greater level of protection to the public than is afforded by the requirement of the Federal hazardous material transportation law or the regulations issued thereunder and does not unreasonably burden commerce.

The information collected under these application procedures is used in the review process by RSPA in determining the merits of the petitions for rulemakings and for reconsideration of rulemakings, as well as applications for exemptions, preemption determinations and waivers of preemption to the HMR. The procedures governing these petitions for rulemaking and for reconsideration of rulemakings are covered in Subpart A of Part 106. Applications for exemptions, preemption determinations and waivers of preemption are covered Subparts B and C of Part 107. Rulemaking procedures enable RSPA to determine if a rule change is necessary, is consistent with public interest, and maintains a level of safety equal to or superior to that of current regulations. Exemption procedures provide the information required for analytical purposes to determine if the requested relief provides for a comparable level of safety as provided by the HMR. Preemption procedures provide information for RSPA to determine whether a requirement of a State, political subdivision, or Indian tribe is preempted under 49 U.S.C. 5125, or regulations issued thereunder, or whether a waiver of preemption should be issued.

Affected Public: Shippers, carriers, packaging manufacturers, and other affected entities.

Estimated Number of Respondents: 3,304.

Estimated Number of Responses: 4,294.

Annual Estimated Burden Hours: 4,219.

Frequency of Collection: Periodically.

Title: Approvals for Hazardous Materials.

OMB No.: 2137-0557.

Type of Request: Revision of a currently approved collection.

Abstract: This information collection consolidates and describes the information collection provisions in parts 107, 172,173, 174,176, and 178 regarding requirements for approvals for hazardous materials in the HMR. Responses to these information collection requirements are required to obtain benefits, such as to become an approval or certification agency or to obtain a variance from packaging or handling requirements based on information provided by the respondent. The types of information collected include: applications to become designated approval agencies, independent cylinder testing agencies, and foreign manufacturers of cylinders; applications for approval of classifications of new explosives; applications for safety determinations to the adequacy of old packagings for materials with special hazards; applications to allow the regulated public to use alternative packagings or test methods; etc. The information collected is used to:

(1) Determine whether applicants who apply to become designated approval agencies are qualified to evaluate package design, test packages, classify hazardous materials, etc.;

(2) Verify that various containers and special loading requirements for vessels meet the requirements of the HMR;

(3) Assure that regulated hazardous materials pose no danger to life and property during transportation; and

(4) Allow minor variations to regulatory requirements (as specifically authorized by regulation), based on information provided by respondents, without requiring the respondent to apply using less timely and more burdensome exemption procedures.

Affected Public: Businesses and other entities who must meet the approval requirements in the HMR.

Estimated Number of Respondents: 3,518.

Estimated Number of Responses: 3,869.

Annual Estimated Burden Hours: 18,381.

Frequency of Collection: On occasion.

ADDRESSES: Send comments regarding the burden estimate, including suggestions for reducing the burden, to Office of Management and Budget, Attention: Desk Officer for RSPA, 725 17th Street, NW., Washington, DC 20503.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Issued in Washington, DC on June 8, 2000.
Edward T. Mazzullo,
Director, Office of Hazardous Materials Standards.

[FR Doc. 00-14908 Filed 6-13-00; 8:45 am]

BILLING CODE 4910-60-P